DEPARTMENT OF TRANSPORTATION

Federal Aviation Administration

14 CFR Part 39

[Docket No. FAA-2014-0701; Directorate Identifier 2014-CE-025-AD; Amendment 39-18034; AD 2014-24-01]

RIN 2120-AA64

Airworthiness Directives; Various de Havilland Airplanes

AGENCY: Federal Aviation Administration (FAA), DOT.

ACTION: Final rule.

SUMMARY: We are adopting a new airworthiness directive (AD) for all Harry E. Williams de Havilland Model DH 82A airplanes, all Cliff Robertson de Havilland Model DH 82A airplanes, and all de Havilland Model DH 83 airplanes. This AD was prompted by reports of structural failure of the attachment of the wing to the fuselage that resulted from failed lateral fuselage tie rods. This AD requires inspecting the aircraft maintenance records to determine the date of installation or the date of last replacement of the lateral fuselage tie rods. This AD also requires repetitively replacing all lateral fuselage tie rods and attaching nuts at a specified life limit interval. We are issuing this AD to correct the unsafe condition on these products.

DATES: This AD is effective January 6, 2015.

The Director of the Federal Register approved the incorporation by reference of a certain publication listed in this AD as of January 6, 2015.

ADDRESSES: For service information identified in this AD, for de Havilland DH 82A airplanes, contact de Havilland Support Ltd., Building 213, Duxford Airfield, Cambridge, United Kingdom CB22 4QR, telephone: +44 (0) 1223 830090; fax: +44 (0) 1223 830085; email: info@dhsupport.com; Internet: http://www.dhsupport.com/moth.php.

For service information identified in this AD, for de Havilland DH 83 airplanes, contact Air Stratus Ltd., Oaksey Park Airfield, Oaksey, Malmesbury, Wiltshite, United Kingdom SN 16 9SD; telephone: +44 (0) 1666 575111; no known Internet address.

You may view this referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0701; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: For airplanes covered under Type Certificate Data Sheet (TCDS) A5PC (Model de Havilland DH 82A airplanes built in Australia): Andrew McAnaul, Aerospace Engineer, FAA, Fort Worth Airplane Certification Office, ASW-150 (c/o San Antonio MIDO), 10100 Reunion Place, Suite 650, San Antonio, Texas 78216; phone: (210) 308-3365; fax: (210) 308-3370; email: andrew.mcanaul@faa.gov.

For airplanes covered under TCDS A8EU (Model de Havilland DH 82A airplanes built in the United Kingdom): Fred Guerin, Aerospace Engineer, FAA, Los Angeles Aircraft Certification Office, 3960 Paramount Blvd., Suite 100, Lakewood, California 90712; phone (562) 627-5232; fax: (562) 627-5210; email: fred.guerin@faa.gov.

For airplanes covered under TCDS 2-439 (Model de Havilland DH 83 airplanes built in the United Kingdom): Karl Schletzbaum, Aerospace Engineer, FAA, Small Airplane Directorate, 901 Locust, Room 301, Kansas City, Missouri 64106; phone: (816) 329-4123; fax: (816) 329-4090; email: karl.schletzbaum@faa.gov.

SUPPLEMENTARY INFORMATION:

Discussion

We issued a notice of proposed rulemaking (NPRM) to amend 14 CFR part 39 by adding an AD that would apply to all Harry E. Williams de Havilland Model DH 82A airplanes, all Cliff Robertson de Havilland Model DH 82A airplanes, and all de Havilland Model DH 83 airplanes. The NPRM published in the Federal Register on September 15, 2014 (79 FR 54919). The NPRM was prompted by reports of structural failure of the attachment of the wing to the fuselage that resulted from failed lateral fuselage tie rods. The NPRM proposed to require inspecting the aircraft maintenance records to determine the date of installation or the date of last replacement of the lateral fuselage tie rods. The NPRM also proposed to require repetitively replacing all lateral fuselage tie rods and attaching nuts at a specified life limit interval. We are issuing this AD to correct the unsafe condition on these products.

Comments

We gave the public the opportunity to participate in developing this AD. We received no comments on the NPRM (79 FR 54919, September 15, 2014) or on the determination of the cost to the public.

Conclusion

We reviewed the relevant data and determined that air safety and the public interest require adopting this AD as proposed except for minor editorial changes. We have determined that these minor changes:

• Are consistent with the intent that was proposed in the NPRM (79 FR 54919, September 15, 2014) for correcting the unsafe condition; and

• Do not add any additional burden upon the public than was already proposed in the NPRM (79 FR 54919, September 15, 2014).

Costs of Compliance

We estimate that this AD will affect 69 airplanes of U.S. registry.

We estimate the following costs to comply with this AD:

Estimated Costs
Action | Labor cost | Parts cost | Cost per product | Cost on U.S. operators
Inspect the aircraft maintenance records to determine the date of installation or date of last replacement of the lateral fuselage tie rods and attaching nuts | 1 work-hour × $85 per hour = $85 | Not applicable | $85 | $5,865

We estimate the following costs to the necessary replacements.

Estimated Costs
Action | Labor cost | Parts cost | Cost per product
Replace lateral fuselage tie rods and attaching nuts | 30 work-hours × $85 per hour = $2,550 | $825 | $3,375

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-24-01 Harry E. Williams, Cliff Robertson, and de Havilland Airplanes: Amendment 39-18034; Docket No. FAA-2014-0701; Directorate Identifier 2014-CE-025-AD.

(a) Effective Date

This AD is effective January 6, 2015.

(b) Affected ADs

None.

(c) Applicability

This AD applies to Harry E. Williams and Cliff Robertson de Havilland Model DH 82A airplanes, all serial numbers, and de Havilland Model DH 83 airplanes, all serial numbers, certificated in any category.

(d) Subject

Joint Aircraft System Component (JASC)/Air Transport Association (ATA) of America Code 5341, Fuselage, Wing Attach Fittings.

(e) Unsafe Condition

This AD was prompted by reports of structural failure of the attachment of the wing to the fuselage that resulted from failed lateral fuselage tie rods. We are issuing this AD to correct the unsafe condition on these products.

(f) Compliance

Comply with this AD within the compliance times specified in paragraphs (g) through (h) of this AD, unless already done.

(g) Determine Date of Installation or Date of Last Replacement of the Lateral Fuselage Tie Rods and Attaching Nuts

Within the next 30 days after January 6, 2015 (the effective date of this AD), review the aircraft records to determine the date of installation or date of last replacement of the lateral fuselage tie rods and attaching nuts.

(h) Replace the Lateral Fuselage Tie Rod and Attaching Nuts

Initially replace the lateral fuselage tie rod and attaching nuts at whichever of the compliance times specified in paragraph (h)(1) or paragraph (h)(2) of this AD that applies. Repetitively thereafter replace the lateral fuselage tie rod and attaching nuts every 2,000 hours TIS or 18 years, whichever occurs first. Do the replacement following the procedures in paragraph 2.C. of the Accomplishment Instructions and the table on Figure 1 in British Aerospace Military Aircraft and Aerostructures BAe Aircraft Bulletin for De Havilland Moth Aircraft, Document Type and Ref No Technical News Sheet CT (Moth) No 29, Issue 3, dated March 1, 1999.

(1) If the date of lateral fuselage tie rod installation or date of last replacement is known: Do the initial replacement at whichever of the following compliance times in paragraph (h)(1)(i) or paragraph (h)(1)(ii) of this AD that occurs later:

(i) Upon accumulating 2,000 hours TIS on the lateral fuselage tie rod or upon reaching 18 years from the last lateral fuselage tie rod replacement, whichever occurs first; or

(ii) Within the next 6 months after January 6, 2015 (the effective date of this AD) or within the next 100 hours TIS January 6, 2015 (after the effective date of this AD), whichever occurs first.

(2) If the date of lateral fuselage tie rod installation or date of last replacement is not known: Do the initial replacement within the next 6 months after January 6, 2015 (the effective date of this AD) or within the next 100 hours TIS after January 6, 2015 (the effective date of this AD), whichever occurs first.

(i) Alternative Methods of Compliance (AMOCs)

(1) The Manager of the Fort Worth Airplane Certification Office (ACO), the Manager of the Los Angeles Aircraft Certification Office (ACO), and the Manager of the Standards Office, FAA, have the authority to approve AMOCs for their respective products covered by this AD, if requested using the procedures found in 14 CFR 39.19. In accordance with 14 CFR 39.19, send your request to your principal inspector or local Flight Standards District Office, as appropriate. If sending information directly to the manager of the applicable FAA office, send it to the attention of the person identified in paragraphs (j)(1), (j)(2), or (j)(3), as applicable.

(2) Before using any approved AMOC, notify your appropriate principal inspector, or lacking a principal inspector, the manager of the local flight standards district office/certificate holding district office.

(j) Related Information

(1) For more information about this AD for airplanes covered under Type Certificate Data Sheet (TCDS) A5PC (Model de Havilland DH 82A airplanes built in Australia), contact Andrew McAnaul, Aerospace Engineer, FAA, Fort Worth ACO, ASW-150 (c/o San Antonio MIDO), 10100 Reunion Place, Suite 650, San Antonio, Texas 78216; phone: (210) 308-3365; fax: (210) 308-3370; email: andrew.mcanaul@faa.gov.

(2) For more information about this AD for airplanes covered under TCDS A8EU (Model de Havilland DH 82A airplanes built in the United Kingdom), contact Fred Guerin, Aerospace Engineer, FAA, Los Angeles ACO, 3960 Paramount Blvd., Suite 100, Lakewood, California 90712; phone (562) 627-5232; fax: (562) 627-5210; email: fred.guerin@faa.gov.

(3) For more information about this AD for airplanes covered under TCDS 2-439 (Model de Havilland DH 83 airplanes built in the United Kingdom), contact Karl Schletzbaum, Aerospace Engineer, FAA, Small Airplane Directorate, 901 Locust, Room 301, Kansas City, Missouri 64106; telephone: (816) 329-4123; fax: (816) 329-4090; email: karl.schletzbaum@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) British Aerospace Military Aircraft and Aerostructures BAe Aircraft Bulletin for De Havilland Moth Aircraft, Document Type and Ref No Technical News Sheet CT (Moth) No 29, Issue 3, dated March 1, 1999.

(ii) Reserved.

(3) For British Aerospace Military Aircraft and Aerostructures service information identified in this AD, contact:

(i) For de Havilland DH 82A airplanes: de Havilland Support Ltd, Building 213, Duxford Airfield, Cambridge, United Kingdom CB22 4QR; telephone: +44 (0) 1223 830090; fax: +44 (0) 1223 830085; email: info@dhsupport.com; Internet: http://www.dhsupport.com/moth.php.

(ii) For de Havilland DH 83 airplanes: Air Stratus Ltd., Oaksey Park Airfield, Oaksey, Malmesbury, Wiltshite, United Kingdom SN 16 9SD; telephone: +44 (0) 1666 575111; no known Internet address.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on November 18, 2014.
Earl Lawrence,
Manager, Small Airplane Directorate, Aircraft Certification Service.

[FR Doc. 2014-27789 Filed 12-1-14; 8:45 am]

BILLING CODE 4910-13-P